DEPARTMENT OF THE TREASURY

Internal Revenue Service

Open Meeting of the Area 7 Taxpayer Advocacy Panel (Including the States of Los Angeles, CA)

ACTION: Notice.

SUMMARY: An open meeting of the Area 7 Taxpayer Advocacy Panel will be conducted (via teleconference), Los Angeles, California.

DATES: The meeting will be held Wednesday, November 20, 2002.

FOR FURTHER INFORMATION CONTACT: Mary Peterson-O'Brien at 1-888-912-1227 or 1-206-220-6096.

SUPPLEMENTARY INFORMATION: Notice is hereby given pursuant to section 10(a)(2) of the Federal Advisory Committee Act, 5 U.S.C. App. (1988) that an open meeting of the Taxpayer Advocacy Panel will be held Wednesday, November 20, 2002 from 10 a.m. to 2 p.m. at the Federal Building located at 300 North Los Angeles St., Los Angeles, CA 90012.

The public is invited to offer written comments. Individual comments will be limited to 5 minutes. If you would like to have the TAP consider a written statement, please call Mary Peterson-O'Brien or Judi Nicholas at 1-888-912-1227 or 206-220-6096, or write Mary Peterson-O'Brien or Judi Nicholas at 915 2nd Avenue, Mail stop W 406, Seattle, WA 98174.

The Agenda will include the following: Introduction of TAP Members, IRS issues, and Administrative Processes.

Note: Last minute changes to the agenda are possible and could prevent effective advance notice.

Dated: October 30, 2002.
John J. Mannion,
Director, Program Planning & Quality.

[FR Doc. 02-29390 Filed 11-19-02; 8:45 am]

BILLING CODE 4830-01-P